DEPARTMENT OF HEALTH AND HUMAN SERVICES

Agency for Toxic Substances and Disease Registry

[ATSDR-231]

Development of Set 21 Toxicological Profiles

AGENCY: Agency for Toxic Substances and Disease Registry (ATSDR), Department of Health and Human Services (HHS).

ACTION: Notice of Development of Toxicological Profiles.

SUMMARY: This notice announces the development of Set 21 Toxicological Profiles. Set 21 Toxicological Profiles consists of one new draft and six updated drafts. These profiles will be available to the public on or about October 17, 2007.

FOR FURTHER INFORMATION CONTACT: Contact Commander Jessilynn B. Taylor, Division of Toxicology and Environmental Medicine, Agency for Toxic Substances and Disease Registry, Mailstop F-32, 1600 Clifton Road, NE., Atlanta, Georgia 30333, telephone (770) 488-3313. Electronic access to these documents will also be available at the ATSDR Web site: http://www.atsdr.cdc.gov/toxpro2.html.

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and the U.S. Environmental Protection Agency (EPA) with regard to hazardous substances that are most commonly found at facilities on the CERCLA National Priorities List (NPL). Among these statutory requirements is a mandate for the Administrator of ATSDR to prepare toxicological profiles for each substance included on the priority lists of hazardous substances. These lists identified 275 hazardous substances that ATSDR and EPA determined pose the most significant potential threat to human health. The availability of the revised list of the 275 priority substances was announced in the Federal Register on December 7, 2005 (70 FR 702840). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744); November 17, 1997 (62 FR 61332); October 21, 1999 (64 FR 56792); October 25, 2001 (66 FR 54014) and November 7, 2003 (68 FR 63098).

Notice of the availability of drafts of these six updated and one new toxicological profiles for public review and comment will be published in the Federal Register on or about October 17, 2007, with notice of a 90-day public comment period for each profile, starting from the actual release date. Following the close of the comment period, chemical-specific comments will be addressed, and, where appropriate, changes will be incorporated into each profile.

Development of Toxicological Profiles

This notice announces the development of one new and six updated toxicological profiles of priority hazardous substances comprising the twenty first set prepared by ATSDR. The following toxicological profiles are now being developed:

Set 21 Toxicological Profiles
Toxicological profile | CAS No.
1. Boron | 7440-42-8
2. Chlorine* | 7782-50-5
3. 1,4-Dioxane | 123-91-1
4. Ethyl Benzene | 100-41-4
5. Ethylene Glycol | 107-21-1
6. Plutonium | 7440-07-5
7. Styrene | 100-42-5
*Denotes new profile.

Dated: May 31, 2007.
Kenneth Rose,
Acting Director, Office of Policy, Planning, and Evaluation, National Center for Environmental Health/Agency for Toxic Substances and Disease Registry.

[FR Doc. E7-11385 Filed 6-12-07; 8:45 am]

BILLING CODE 4163-70-P